DEPARTMENT OF HOMELAND SECURITY

Bureau of Customs and Border Protection

Notice of Cancellation of Customs Broker License

AGENCY: Bureau of Customs and Border Protection, Department of Homeland Security.

ACTION: General notice.

SUMMARY: Pursuant to section 641 of the Tariff Act of 1930, as amended, (19 U.S.C. 1641) and the Customs Regulations(19 CFR 111.51), the following Customs broker license and any and all associated local and national permits are canceled without prejudice.

Name | License # | Issuing port
George S. Engers | 7283 | Miami.
HECNY Brokerage Services, Inc. | 5356 | San Francisco.
Robert A. Leslie | 5481 | San Francisco.

These brokers hold multiple Customs broker licenses. They continue to hold other valid Customs broker licenses.

Dated: March 11, 2003.
Jayson P. Ahern,
Assistant Commissioner, Office of Field Operations.

[FR Doc. 03-7723 Filed 3-31-03; 8:45 am]

BILLING CODE 4820-02-P